NATIONAL SCIENCE FOUNDATION

Agency Information Collection Activities: Proposed Revision to Approved Collection OMB 3245-0182; Comment Request

AGENCY: National Science Foundation.

ACTION: Notice.

SUMMARY: The National Science Foundation (NSF) is announcing plans to revise this collection. In accordance with the requirement of section 3506(c)(2)(A) of the Paperwork Reduction Act of 1995, we are providing opportunity for public comment on this action. After obtaining and considering public comment, NSF will prepare the submission requesting OMB clearance of this collection for no longer than 3 years.

Comments are invited on: (a) Whether the proposed collection of information is necessary for the proper performance of the functions of the Agency, including whether the information shall have practical utility; (b) the accuracy of the Agency's estimate of the burden of the proposed collection of information; (c) ways to enhance the quality, utility, and clarity of the information on respondents, including through the use of automated collection techniques or other forms of information technology; and (d) ways to minimize the burden of the collection of information on respondents, including through the use of automated collection techniques or other forms of information technology.

DATES: Written comments should be received by February 20, 2004 to be assured of consideration. Comments received after that date would be considered to the extent practicable.

ADDRESSES: Written comments regarding the information collection and requests for copies of the proposed information collection request should be addressed to Suzanne Plimpton, Reports Clearance Officer, National Science Foundation, 4201 Wilson Blvd., Rm. 295, Arlington, VA 22230, or by e-mail to splimpto@nsf.gov.

FOR FURTHER INFORMATION CONTACT: Suzanne Plimpton at (703) 292-7556 or send e-mail to splimpto@nsf.gov. Individuals who use a telecommunications device for the deaf (TDD) may call the Federal Information Relay Service (FIRS) at 1-800-877-8339 between 8 a.m. and 8 p.m., Eastern time, Monday through Friday.

SUPPLEMENTARY INFORMATION: Title of Collection: Evaluation of the Initial Impacts of the Integrative Graduate Education Research and Traineeship Program (IGERT) (formerly called the Cross-Site Analysis of the IGERT Program)

OMB Control No.: 3145-0182.

Expiration Date Of Approval: July 31, 2005.

Abstract: This document has been prepared to support a revision to an OMB-approved data collection used in the evaluation of the Initial Impacts of the Integrative Graduate Education Research and Traineeship Program) (IGERT). Managed by the Directorate for Education and Human Resources' (EHR) Division of Graduate Education (DGE), and crosscutting several NSF research directorates, the IGERT Program has been developed to meet the challenges of educating U.S. Ph.D. scientists, engineers, and educators with the interdisciplinary backgrounds, deep knowledge in chosen disciplines, and technical, professional, and personal skills to become in their own careers the leaders and creative agents for change. The program is intended to catalyze a cultural change in graduate education and to facilitate greater diversity in student participation and preparation.

Monitoring and evaluation of the IGERT Program has been underway since shortly after its inception in 1997, and focuses on the implementation of projects at individual universities. Beginning in 2002, REC funded a multiple-methods study cleared as “The Cross-Site Analysis of the IGERT program” (OMB 3154-0182), focused on project implementation and impacts, and consisting of site visits to projects in their third year of implementation. The next step is to ask questions about the impact of IGERT on participants, institutions, and Science, Technology, Engineering, and Mathematics (STEM) fields as compared to the experiences of appropriate comparison groups and/or external respondents. Topics addressed will include the following: What is the added recruitment value of the IGERT project? How do the content and structure of IGERT educational and research experiences differ from those experienced by students in a single-discipline doctoral program? How do IGERT students, faculty, and graduates differ from non-IGERT comparison groups in terms of their productivity, academic skills, ability to work in cross-disciplinary teams, and interest in interdisciplinary research? At their home institutions, have IGERT projects expanded? Do they benefit from institutional financial or policy support beyond that experienced by non-IGERT departments? Have projects resulted in new courses or degree programs? Outside their home institution, how well are IGERT projects known, and what impact is the IGERT program having on STEM fields at large?

A series of surveys and interviews will be employed to answer these questions along with the previously cleared site visits. Internet surveys will be administered to PIs; IGERT department chairs and comparison department chairs; IGERT trainees and comparison department doctoral students; and IGERT and comparison department faculty. Secondly, interviews will be conducted with IGERT institutional administrators and comparison institutional administrators. Finally, e-mail surveys will be developed for graduates of IGERT programs and corresponding comparison graduates; supervisors at IGERT internship sites; and leaders of professional associations and educational agencies (national and international).

The IGERT program consists of multidisciiplinary projects that bring together faculty and students from multiple departments. To form an appropriate comparison group for this program, this study will match the two departments with the largest number of students from each IGERT project with non-IGERT single discipline departments. This approach compares the multidisciplinary graduate education experience with traditional single department graduate education, and uses IGERT as the examplar of the multidisciplinary. The counter-factual provided by this comparison group choice is the single department experience trainees would have had, had they not become IGERT trainees.

Expected respondents: The data for this study will be gathered through surveys and telephone interviews. The expected respondents are:

Surveys:

(1) Current IGERT students and comparison non-IGERT students

(2) Current IGERT faculty and comparison non-IGERT faculty

(3) Current IGERT PIs

(4) IGERT department chairs and comparison non-IGERT department chairs

(5) IGERT graduates and comparison non-IGERT graduates

(6) Representatives of STEM fields

(7) Leaders in STEM fields (heads of associations, renowned researchers * * *)

(8) Supervisors at IGERT student internship sites

Interviews:

(9) Administrators at IGERT and non-IGERT institutions

Burden on the Public: This study's total sample is 3350 individuals, and the total estimated burden for this collection is 980 hours. The average estimated reporting burden is 20 minutes per respondent. The study includes IGERT program participants and a comparison group in close to equal proportions. Because the comparison group members are members of the general public not funded by the program being evaluated, the burden upon the general public is calculated to be 473 hours.

Dated: January 14, 2004.
Suzanne H. Plimpton,
Reports Clearance Officer, National Science Foundation.

[FR Doc. 04-1204 Filed 1-20-04; 8:45 am]

BILLING CODE 7555-01-M